DEPARTMENT OF ENERGY

Federal Energy Regulatory Commission

[Project No. 14290-000]

Porcupine Dam Hydropower Project; Notice of Preliminary Permit Application Accepted for Filing and Soliciting Comments, Motions To Intervene, and Competing Applications

On September 20, 2011, Porcupine Reservoir Company, Utah, filed an application for a preliminary permit, pursuant to section 4(f) of the Federal Power Act (FPA), proposing to study the feasibility of the Porcupine Dam Hydropower Project to be located on the East Fork of the Little Bear River near the town of Avon, the county of Cache, Utah. The sole purpose of a preliminary permit, if issued, is to grant the permit holder priority to file a license application during the permit term. A preliminary permit does not authorize the permit holder to perform any land-disturbing activities or otherwise enter upon lands or waters owned by others without the owners' express permission.

The proposed project would consist of the existing Porcupine reservoir, powerhouse with three turbines, and a 12.5-kilovolt transmission line. The reservoir, formed by a 181-foot-high by 665-foot-long, earth-filled embankment, has a total storage capacity of 13,000 acre-feet and a water surface area of 190 acres at full pool elevation of 5,383 feet above mean sea level. The turbines total 560 kilowatts (kW) (2 units x 235 kW and 1 unit x 90 kW) of generating capacity producing roughly 2,500 megawatt-hours per year.

The proposed penstock would be located within a close proximity to the original penstock, which was removed in 1999. The turbines would be evaluated to determine feasibility of increasing energy production capacity to 750 kW.

Applicant Contact: Phil Olson, Porcupine Reservoir Company, 9808 S 280 E, Paradise, UT 84328; phone (435) 245-3326.

FERC Contact: Brian Csernak; phone: (202) 502-6144.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-(866) 208-3676, or for TTY, (202) 502-8659. Although the Commission strongly encourages electronic filing, documents may also be paper-filed. To paper-file, mail an original and seven copies to: Kimberly D. Bose, Secretary, Federal Energy Regulatory Commission, 888 First Street NE., Washington, DC 20426.

More information about this project, including a copy of the application, can be viewed or printed on the “eLibrary” link of Commission's Web site at http://www.ferc.gov/docs-filing/efiling.asp. Enter the docket number (P-14290-000) in the docket number field to access the document. For assistance, contact FERC Online Support.

Dated: November 25, 2011.
Kimberly D. Bose,
Secretary.

[FR Doc. 2011-30968 Filed 12-1-11; 8:45 am]

BILLING CODE 6717-01-P